DEPARTMENT OF TRANSPORTATION

Federal Aviation Administration

[Summary Notice No. PE-2013-01]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number and must be received on or before February 7, 2013.

ADDRESSES: You may send comments identified by Docket Number FAA-2012-1349 using any of the following methods:

• Government-wide rulemaking web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Keira Jones (202) 267-4024, or Tyneka Thomas (202) 267-7626, Office of Rulemaking, Federal Aviation Administration, 800 Independence Avenue SW., Washington, DC 20591.

This notice is published pursuant to 14 CFR 11.85.

Issued in Washington, DC, on January 14, 2013.
Lirio Liu,
Director, Office of Rulemaking.

Petition for Exemption

Docket No.: FAA-2012-1349.

Petitioner: Delta Air Lines, Inc.

Section of 14 CFR Affected: 14 CFR 91.9(a).

Description of Relief Sought: During installation via Supplemental Type Certificate (STC) of the on-board Wif'i system on Delta Air Lines' 737-800 fleet, a placard was placed on the flight deck prohibiting use of WiFi devices from the flight deck. As part of a turbulence incident mitigation research program, Delta Air Lines seeks relief to allow 40 Delta B737 Senior Line Check Airmen (LCA) to access a web-based enroute turbulence tool using the existing aircraft WiFi connection during the operational demonstration period of the research effort anticipated to last approximately 1 year, and only during non-critical phases of flight. Delta provides analysis demonstrating an equivalent level of safety through use of very low-power equipment and operational controls.

[FR Doc. 2013-01044 Filed 1-17-13; 8:45 am]

BILLING CODE 4910-13-P